DEPARTMENT OF THE TREASURY

Senior Executive Service; Performance Review Boards

AGENCY: Department of the Treasury.

ACTION: Notice of Appointments to Performance Review Boards (PRBs).

SUMMARY: This notice announces the appointment of members to the Department of the Treasury's Performance Review Boards (PRBs). The purpose of these Boards are to review and make recommendations concerning proposed performance appraisals, ratings, bonuses and other appropriate personnel actions for incumbents of SES positions in the Department.

DATES: Membership is effective on the date of this notice.

FOR FURTHER INFORMATION CONTACT: Kimberly Jackson or Tanya Everett, Office of Executive Resources, 1500 Pennsylvania Avenue NW, ATTN: 1722 Eye Street, 9th Floor, Washington, DC 20220, Telephone: 202-622-0774.

SUPPLEMENTARY INFORMATION: Composition of the PRB: The Boards shall consist of at least three members. In the case of an appraisal of a career appointee, more than half the members shall consist of career appointees. The persons listed below may be selected to serve on one or more PRB within Treasury.

Names for Federal Register Publication

Top Officials

• Anna Canfield Roth, Assistant Secretary for Management

• Patricia Greiner, Deputy Director, Chief Administrative Officer, Bureau of Engraving and Printing

• Charlene Williams, Deputy Director, Chief Operating Officer, Bureau of Engraving and Printing and

• Timothy Gribben, Commissioner for the Bureau of the Fiscal Service

• Tami Perriello, Deputy Commissioner (Transformation and Modernization), Bureau of the Fiscal Service

• Matthew J. Miller, Deputy Commissioner (Financing and Operations), Bureau of the Fiscal Service

• Jeffrey J. Schramek, Executive Director Administrative Resource Center, Bureau of the Fiscal Service

• Andrea Gackie, Director, Financial Crimes Enforcement Network

• Kristie L. McNally, Deputy Director of the Mint

• Jeffrey Tribiano, Deputy Commissioner for Operations Support (IRS)

• Douglas O'Donnell, Deputy Commissioner for Services and Enforcement (IRS)

• Mary G. Ryan, Administrator for the Alcohol and Tobacco Tax and Trade Bureau

• David Wulf, Deputy Administrator for the Alcohol and Tobacco Tax and Trade Bureau

• David Lebryk, Fiscal Assistant Secretary

• Laurie Schaffer, Principal Deputy General Counsel

• Addar Levi, Deputy General Counsel

• Eric Nguyen, Deputy General Counsel

Departmental Offices

• Didem Nisanci, Chief of Staff

• Aditi Hardikar, Deputy Chief of Staff

• Kayla Arslanian, Executive Secretary

• Donna Ragucci, Director for the Office of Small and Disadvantaged Business Utilization

• Janis Bowdler, Counselor for Racial Equity

• Aditi Hardikar, Deputy Chief of Staff

• Ethan Zindler, Climate Counselor to the Secretary

• Andy Baukol, Counselor to the Secretary

• Diane Lim, Director, Treasury Equity Hub

• Laurel Blatchford, Chief Implementation Officer for the IRA

• Ari Krupkin, Director of Strategic Planning and Protocol

• Brian Reissaus, DAS Investment Security Operations

• Andrew Fair, Director, Reviews and Investigations

• David Shogren, Director, Monitoring and Enforcement

• James Secreto, Counselor

• Patricia Pollard, Deputy Assistant Secretary for International Money and Financial Policy

• Evangelia Bouzis, Senior Advisor

• Mary Svenstrup, Director, Office of International Monetary Policy

• Brian McCauley, Deputy Assistant Secretary, Europe and Eurasia

• Jeffrey Baker, Director, Office of Development Results and Accountability

• Margaret Kuhlow, DAS International Development Finance and Policy

• Alejandro Mares, Director, Western Hemisphere Office

• Robert Kaproth, Deputy Assistant Secretary for South and East Asia

• Michael Kaplan, Deputy Assistant Secretary for Western Hemisphere and South Asia

• Albert Lee, Director, Market Rooms

• Shannon Ding, Director, Office of East Asia

• Lailee Moghtader, Deputy Assistant Secretary for Trade Policy

• Charles Moravec, Director, Multilateral Development Banks

• Clarence Severens, Senior Advisor

• Lida Fitts, Director, Office of Energy and Infrastructure

• Margaret Crane, Director, Office of African Nations

• Mathew Haarsager, Treasury Attaché

• Eric Meyer, Deputy Assistant Secretary, Africa and Middle East

• Jason R. Orlando, Director, Office of Technical Assistance

• Sean Hoskins, Director of Policy

• Nicholas Steele, Director of Analysis

• Renata Miskell, Deputy Assistant Secretary for Accounting Policy and Financial Transparency

• Gregory Till, Deputy Assistant Secretary for Fiscal Operations and Policy

• Christopher H. Kubeluis, Director for the Office of Fiscal Projections

• Walter Kim, Director for the Office of Financial Institutions Policy

• Noel Poyo, Deputy Assistant Secretary for Community and Economic Development

• Brian Peretti, Director of International Coordination and Mission Support

• Steven E. Seitz, Director Federal Insurance Office

• Stephanie Schmelz, Deputy Director of the Federal Insurance Office

• Todd Conklin, Deputy Assistant Secretary for Cybersecurity and Critical Infrastructure Protection

• Natalia Li, Director Office of Consumer Policy

• Suzanna Fritzberg, Deputy Assistant Secretary for Capital Access

• Dennis E. Nolan, Deputy Director for Finance and Operations

• Marcia Sigal, Deputy Director for Policy and Programs

• Brian M. Smith, Deputy Assistant Secretary for Federal Finance

• Gary Grippo, Deputy Assistant Secretary for Public Finance

• Fred Pietrangeli, Director for the Office of Debt Management

• Nandini Ajmani, Deputy Assistant Secretary for Capital Markets

• Melissa Moye, Director, Office of State and Local Finance

• Jeffrey Kim, Director, Federal Program Finance

• Paul Ahern, Counselor to the Under Secretary for Terrorism and Financial Intelligence

• Bradley T. Smith, Deputy Director for the Office of Foreign Assets Control

• Gregory Gatjanis, Associate Director for the Office of Global Targeting

• Lisa M. Palluconi, Associate Director, Sanctions Policy and Implementation

• John H. Battle, Associate Director, Office of Sanctions Support & Operations

• John M. Farley, Director, Executive Office for Asset Forfeiture

• Billy Bradley, Deputy Director, Treasury Executive Office for Asset Forfeiture

• Lawrence Scheinert, Associate Director for the Office of Compliance and Enforcement

• Ripley Quinby, IV, Deputy Associate Director, Office of Global Targeting

• Scott Rembrandt, Deputy Assistant Secretary for the Office of Strategic Policy, Terrorist Financing and Financial Crimes

• Anna Morris, Deputy Assistant Secretary for Global Affairs

• Jesse Baker, Deputy Assistant Secretary for Global Affairs (Asia/Middle East)

• Rhett Skiles, Deputy Assistant Secretary, Cyber Intelligence

• Thomas Wolverton, Deputy Assistant Secretary for Security and Counterintelligence

• Katherine Amlin, Deputy Assistant Secretary for Analysis and Production

• Michael Doyle, Director, Office of Security Programs

• Michael Neufeld, Principal Deputy Assistant Secretary for Support and Technology

• Patrick Conlon, Director for Civil Liberties, Privacy Protection and Transparency

• Ronald Storhaug, Deputy Assistant Secretary for Legislative Affairs (Tax & Budget)

• Corey Tellez, Principal Deputy Assistant Secretary for Legislative Affairs

• Christopher Burdick, Deputy Assistant Secretary for Legislative Affairs (Terrorism and Financial Intelligence)

• Angel Nigaglioni, Deputy Assistant Secretary for Legislative Affairs (Appropriations and Management)

• Isabella More, Deputy Assistant Secretary for Legislative Affairs (Oversight)

• Diana Pilipenko, Deputy Assistant Secretary for Legislative Affairs (International Affairs)

• Michael Gwin, Deputy Assistant Secretary for Public Affairs (Terrorism and Financial Intelligence)

• Scott Arceneaux, Deputy Assistant Secretary for Public Engagement

• Eric Van Nostrand, Deputy Assistant Secretary for Financial Economics

• Christopher Soares, Director, Microeconomic Analysis

• Jonathan S. Jaquette, Director for Receipts Forecasting

• Thomas West, Jr., Deputy Assistant Secretary for Tax Policy

• Neviana Petkova, Director for Business and International Taxation

• Robert Gillette, Director for the Office of Tax Analysis

• Curtis Carlson, Director of Business Revenue

• Adam Cole, Director for Individual Taxation

• Seth Hanlon, Deputy Assistant Secretary for Tax & Climate Policy

• Gregory Leiserson, Deputy Assistant Secretary for Tax Analysis

• Michael Plowgian, Deputy Assistant Secretary for International Tax Affairs

• Jaime Rullan, Deputy Chief Financial Officer

• Jessica Milano, Chief Program Officer

• Victoria Collin, Chief Compliance and Finance Officer, Office of Recovery Programs

• Jeffrey Stout, Deputy Chief Program Officer for Small Business and Industry

• Ryan Law, Deputy Assistant Secretary for Privacy Transparency and Records

• Robert Mahaffie, Deputy Assistant Secretary for Management and Budget

• Tonya Burton, Director for the Office of Financial Management

• Lenora Stiles, Director, Strategic Planning and Performance Improvement

• Kawan Taylor, Director, Financial Reporting, Policy and Operations

• William Sessions, Departmental Budget Director

• Carole Y. Banks, Deputy Chief Financial Officer

• Nicole K. Evans, Director, Office of the Procurement Executive

• J. Trevor Norris, Deputy Assistant Secretary for Human Resources and Chief Human Capital Officer

• Snider Page, Director, Office of Civil Rights and Equal Employment Opportunity

• Lorraine Cole, Chief Diversity and Inclusion for Departmental Offices

• Colleen Heller-Stein, Deputy Chief Human Capital Officer

• Nancy Ostrowski, Director, Office of DC Pensions

• David Aten, Director, Associate Chief Human Capital Officer, IRS Human Capital Transformation

• Antony P. Arcadi, Deputy Assistant Secretary, Information Systems and Chief Information Officer

• Roger Adams, Associate Chief Information Officer for Enterprise Infrastructure Operations Services

• Roger Mishoe, Chief Data Officer

• Sarah Nur, Associate Chief Information Officer for Cyber Security

• Nicolaos Totten, Associate Chief Information Officer for Enterprise Application Services

• Nancy Sieger, Chief Technology Officer

• Verline Shepherd, Bureau Chief Information Officer for Departmental Offices

• Jeffrey King, Deputy Chief Information Officer

Office of the General Counsel

• Mark Vetter, Deputy Assistant General Counsel (Ethics)

• Jacob Loshin, Assistant General Counsel (Enforcement and Intelligence)

• Frank P. Menna, Deputy Assistant General Counsel (Enforcement and Intelligence)

• Eric Froman, Assistant General Counsel (Banking and Finance)

• Stephen Milligan, Deputy Assistant General Counsel (Banking and Finance)

• Nayla Kawerk, Deputy Assistant General Counsel (International Affairs)

• Theodore Posner, Assistant General Counsel (International Affairs)

• Alexandra Yestrumskas, Deputy Assistant General Counsel (International Affairs)

• Jeffrey M. Klein, Deputy Assistant General Counsel (International Affairs)

• Brian J. Sonfield, Assistant General Counsel (General Law, Ethics and Regulation)

• Michael Briskin, Deputy Assistant General Counsel (General Law and Regulation)

• Lindsay Kitzinger, International Tax Counsel

• Krishna Prasad Vallabhaneni, Tax Legislative Counsel

• Carol Ann Weiser, Benefits Tax Counsel

• Helen Morrison, Deputy Benefits Tax Counsel

• Brett Steven York, Deputy Tax Legislative Counsel

• Michelle Dickerman, Deputy Assistant General Counsel for Litigation, Oversight and Financial Stability

• Katrina Carroll, Chief Counsel for the Financial Crimes Enforcement Network

• Heather Book, Chief Counsel for the Bureau of Engraving and Printing

• John F. Schorn, Chief Counsel for the U.S. Mint

• Lillian Lai-Lin Cheng, Chief Counsel for the Bureau of the Fiscal Service

• Christina McMahon, Chief Counsel for Alcohol and Tobacco Tax and Trade Bureau

Bureau of Engraving and Printing

• Dwayne Thomas, Associate Director

• Steven Fisher, Associate Director (Chief Financial Officer)

• Richard Roy Clark, Associate Director (Quality)

• Craig Deitrick, Associate Director (Management)

• Justin D. Draheim, Associate Director (Product Design and Development)

• Harinder Singh, Associate Director, (Chief Information Officer)

• Ronald Voelker, Associate Director, Manufacturing (WCF)

• Yolanda Ward, Associate Director, Manufacturing (DCF)

Financial Crimes Enforcement Network

• Himamauli Das, Counselor to the Director of the Financial Crimes and Enforcement Network

• Amy L. Taylor, Associate Director, Technology Solutions and Services Division/CIO

• Peter Bergstrom, Associate Director, Management/CFO

• Felicia Swindells, Associate Director, Policy Division

• Jimmy Kirby Jr., Associate Director, Intelligence Division

• Whitney Case, Associate Director, Enforcement and Compliance Division

• Kenneth L. O'Brien, Deputy Associate Director

• Matthew R. Stiglitz, Associate Director, Global Investigations Division

U.S. Mint

• Kenyatta Fletcher, Associate Director for Financial Management/CFO

• Francis O'Hearn, Associate Director for Information Technology

• Robert Kuryzna, Plant Manager, Philadelphia

• Randall Johnson, Plant Manager for Denver

Alcohol and Tobacco Tax and Trade Bureau

• Emily Streett, Assistant Administrator, Headquarters Operations

• Caroline F. May, Assistant Administrator, Field Operations

• Gregory Greeley, Assistant Administrator, Information Resources/CIO

• Amy Graydon, Assistant Administrator, External Affairs/Chief of Staff

• Anthony Gledhill, Assistant Administrator, Permitting and Taxation

• Elisabeth C. Kann, Chief Strategy Officer

Bureau of the Fiscal Service

• Joseph Gioeli, Assistant Commissioner (Chief Information Officer/Information and Security Services)

• Peter T. Genova, Deputy Chief Information Officer

• Nathaniel Reboja, Deputy Assistant Commissioner and Chief Technology Officer

• Daniel Berger, Chief Financial Officer

• Erica Gaddy, Deputy Chief Financial Officer

• Dara Seaman, Associate Commissioner Financial Operations

• Linda C. Chero, Assistant Commissioner, Disbursing and Debt Management

• Marisa F. Anthony, Deputy Assistant Commissioner (Payment Management)

• Vona Susan Robinson, Regional Financial Center Executive Director—Kansas City

• Sandra Paylor, Assistant Commissioner (Fiscal Accounting)

• Tannura Elie, Director, Revenue Collection Group

• Madiha D. Latif, Director, Director, Cash Management Infrastructure Group

• Lori Santamorena, Government Securities Regulations Staff

• Douglas Anderson, Assistant Commissioner (Retail Securities Services)

• Paula E. Corbin, Assistant Managing Director (Service Delivery)

• Daniel J. Vavasour, Managing Director (MMCC)

• Christina M. Cox, Deputy Assistant Commissioner (Debt Management Services)

• Wallace H. Ingram, Director (Debt Management Services Operations Center—West)

• Keith Alderson, Director (Debt Management Services Operations Center—East)

• David T. Copenhaver, Assistant Commissioner (Wholesale Securities Services)

• Thomas T. Vannoy, Deputy Assistant Commissioner (Wholesale Securities Services)

• Adam H. Goldberg, Business Transformation Executive

• D. Michael Linder, Assistant Commissioner Federal Finance

• Tamela Saiko, Deputy Assistant Commissioner (Fiscal Accounting Operations)

• Matthew Garber, Chief Customer Officer

• Justin Marsico, Chief Data Officer

• Paul E. Deuley, Managing Director (Service Delivery)

• Jason T. Hill, Assistant Managing Director (MMCC)

• Amanda M. Kupfner, Chief Strategy Integration Officer

• Alyssa W. Riedl, Deputy Assistant Commissioner (Retail Securities Services)

• Angela Jones, Chief Human Resource Officer

Kimberly Jackson,
Human Resources Specialist, Office of Executive Resources.

[FR Doc. 2023-21197 Filed 9-27-23; 8:45 am]

BILLING CODE 4810-AK-P